DEPARTMENT OF TRANSPORTATION

Research and Special Programs Administration

Office of Hazardous Materials Safety; Notice of Applications for Modification of Exemption

AGENCY: Research and Special Programs Administration, DOT.

ACTION: List of applications for modification of exemptions.

SUMMARY: In accordance with the procedures governing the application for, and the processing of, exemptions from the Department of Transportation's Hazardous Materials Regulations (49 CFR part 107, Subpart B), notice is hereby given that the Office of Hazardous Materials Safety has received the applications described herein. This notice is abbreviated to expedite docketing and public notice. Because the sections affected, modes of transportation, and the nature of application has been shown in earlier Federal Register publications, they are not repeated here. Requests for modifications of exemptions (e.g. to provide for additional hazardous materials, packaging design changes, additional mode of transportation, etc.) are described in footnotes to the application number. Application numbers with the suffix “M” denote a modification request. These applications have been separated from the new applications for exemptions to facilitate processing.

DATES: Comments must be received on or before June 15, 2001.

Address Comments To: Records Center, Research and Special Programs Administration, U.S. Department of Transportation, Washington, DC 20590.

Comments should refer to the application number and be submitted in triplicate. If confirmation of receipt of comments is desired, include a self-addressed stamped postcard showing the exemption number.

FOR FURTHER INFORMATION CONTACT: Copies of the applications are available for inspection in the Records Center, Nassif Building, 400 7th Street SW, Washington, DC or at http://dms.dot.gov.

This notice of receipt of applications for modification of exemptions is published in accordance with Part 107 of the Federal hazardous materials transportation law (49 U.S.C. 5117(b); 49 CFR 1.53(b)).

Issued in Washington, DC, on May 23, 2001.
J. Suzanne Hedgepeth,
Director, Office of Hazardous Materials, Exemptions and Approvals.

Application No. | Docket No. | Applicant | Modification of exemption
4453-M |  | Dyno Nobel, Inc., Salt Lake City, UT ¹ | 4453
6614-M |  | HCI-Clearwater Chemical Corporation, Clearwater, FL ² | 6614
6805-M |  | Air Liquide America Corporation, Houston, TX ³ | 6805
7823-M |  | Honeywell International, Inc., Morristown, NJ ⁴ | 7823
8554-M |  | Dyno Nobel, Inc., Salt Lake City, UT ⁵ | 8554
8723-M |  | Dyno Nobel, Inc., Salt Lake City, UT ⁶ | 8723
8865-M |  | Carleton Technologies, Inc., Orchard Park, NY ⁷ | 8865
9729-M |  | Honeywell International, Inc., Morristown, NJ ⁸ | 9729
10481-M |  | M1 Engineering Limited, Bradford, West Yorkshire, UK ⁹ | 10481
10945-M |  | Structural Composites Industries, Pomona, CA ¹⁰ | 10945
10977-M |  | Federal Industries Corporation, Plymouth, MN ¹¹ | 10977
11054-M |  | Welker Engineering Company, Sugar Land, TX ¹² | 11054
11194-M |  | Carleton Technologies, Inc., Pressure Tech. Div., Glen Burnie, MD ¹³ | 11194
11516-M |  | CRC Industries, Inc., Warminster, PA ¹⁴ | 11516
11579-M |  | Dyno Nobel, Inc., Salt Lake City, UT ¹⁵ | 11579
12296-M | RSPA-99-5879 | Clean Earth Systems, Inc., Tampa, FL ¹⁶ | 12296
¹ To modify the exemption to allow for the transportation of an additional Division 1.5D explosive in a non-DOT specification bulk, hopper-type tank.
² To modify the exemption to authorize the transportation of an additional Class 8 material in a non-DOT specification polyethylene bottle, packed inside a high density polyethylene box.
³ To modify the exemption to authorize the use of DOT Specification 3A and 3AA cylinders as additional packaging for the transportation of Division 2.1 and 2.3 materials and a language clarification of the low pressure cylinders for transporting carbon monoxide.
⁴ To modify the exemption to allow for the transportation of a Class 8 material in non-DOT specification welded stainless steel cylinders complying with DOT Specification 4BW cylinders with certain exceptions.
⁵ To modify the exemption to allow for the transportation of an additional Division 1.5D explosive in DOT Specification MC-306, MC-307 and MC-312 cargo tanks.
⁶ To modify the exemption to allow for the transportation, in bulk, of an additional Division 1.5D explosive in certain authorized motor vehicles and portable tanks.
⁷ To modify the exemption to allow for the refilling of the gas storage system consisting of a non-DOT specification cylinder with pyrotechnic relief devices for the transportation of helium.
⁸ To modify the exemption to allow for the transportation of a Division 5.1 material in Type 304L stainless steel cylinders complying with the requirements of DOT Specification 4BW.
⁹ To modify the exemption to authorize a design change of the non-DOT specification vacuum insulated portable tank, in an ISO frame, for the transportation of certain refrigerated liquids.
¹⁰ To modify the exemption concerning the requalification of the non-DOT specification fully wrapped carbon-fiber reinforced aluminum lined cylinders from a 3-year to a 5-year requalification interval for the transportation of various flammable and non-flammable gases.
¹¹ To modify the exemption to eliminate the requirement that the intermediate packaging be placed in a metal can for the transportation of limited quantities of solid hazardous materials in specifically designed combination packaging without hazard labels or placards.
¹² To modify the exemption to authorize an increase to the outside diameter of the non-DOT specification cylinder, conforming to 3A specification, for use in shipment of Division 2.1, 2.3 and Class 3 materials.
¹³ To modify the exemption concerning the requalification of the non-DOT specification fully wrapped carbon-fiber reinforced aluminum lined cylinders from a 3-year to a 5-year requalification interval for the transportation of various flammable and non-flammable gases.
¹⁴ To modify the exemption to authorize the transportation of 1,1-Difluoroethane, R152A, reclassed as a Consumer Commodity, in certain DOT Specification 2Q containers; relief from the marking requirements for this material.
¹⁵ To modify the exemption to authorize the addition of Divison 1.1B, 1.4B, 1.1D and 5.1 materials to be transported on the same cargo unit with Division 1.5D explosives, without a common wall divider and the addition of truck designs for the transportation of these materials.
¹⁶ To modify the exemption to authorize an inner polyethylene liner for the UN 11G fiberboard intermediate bulk container having a minimum thickness of six (6) mils for the transportation of various classes of hazardous materials.

[FR Doc. 01-13564 Filed 5-30-01; 8:45 am]

BILLING CODE 4910-60-M